DEPARTMENT OF COMMERCE

Minority Business Development Agency

Proposed Information Collection; Comment Request; Online Customer Relationship Management (CRM)/Performance Databases

AGENCY: Minority Business Development Agency (MBDA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 23, 2019.

ADDRESSES: Direct all written comments to Jennifer Jessup, Departmental Paperwork Clearance Officer, Department of Commerce, Room 6616, 14th and Constitution Avenue NW, Washington, DC 20230 (or via the internet at (docpra@doc.gov).

FOR FURTHER INFORMATION CONTACT: Requests for additional information or copies of the information collection instrument and instructions should be directed to Nakita Chambers, Program Manager, Minority Business Development Agency, U.S. Department of Commerce, Office of Business Development, 1401 Constitution Avenue NW, Washington, DC 20230, (202) 482-0065, and email: nchambers@mbda.gov.

SUPPLEMENTARY INFORMATION:

I. Abstract

As part of its national service delivery system, MBDA awards cooperative agreements and grant awards through broad agency announcements each year to fund the provision of business development services to eligible minority business enterprises (MBEs). The recipient of each grant award is competitively selected to participate in one of the MBDA's programs. In accordance with the Government Performance Results Act (GPRA), MBDA requires all grant participants to report basic client information, service activities and progress on attainment of program goals via the Online CRM/Performance database. The data inputs into the CRM/Performance database originate from client intake forms used by each participant to collect information about each minority business enterprise that receives technical business assistance from the servicing grant participants. This data provides the baseline from which the CRM/Performance database is populated. The Online CRM/Performance Database is used to regularly monitor and evaluate the progress of the MBDA programs, to provide the Department and OMB with a summary of the quantitative information required to be submitted about government supported programs, and to implement the GPRA. This information is also summarized and included in the MBDA Annual Performance Report, which is made available to the public.

In 2012, the overall estimate of burden hours decreased for users under the newly adopted program structure as a result of the streamlining of certain administrative and reporting requirements. The MBDA grant programs will continue to use the Customer Relationship Management/Performance database until the new program is redesigned during Fiscal Year 2019.

Revision: In Fiscal Year 2018, MBDA has included broad agency announcement grants into the service delivery model for the agency. The client transaction and verification forms in use for the business center program will also be used to collect information about the effectiveness of other grant programs funded by the agency. The forms include a statement regarding MBDA's intended use by MBDA and transfer of the information collected to other federal agencies for the purpose of conducting research and studies on minority businesses.

II. Method of Collection

Information will be collected manually and electronically.

III. Data

OMB Control Number: 0640-0002.

Form Number(s): 0640-002.

Type of Review: Regular (Reinstatement) submission.

Affected Public: Individuals or households; Business or other for-profit organizations; Not-for-profit institutions; State, Local, or Tribal government; Federal government.

Estimated Number of Respondents: 2,633.

Estimated Time per Response: 1 minute to 210 minutes, depending upon function.

Estimated Total Annual Burden Hours: 4,516.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection. All comments received are part of the public record and will be posted to http://www.regulations.gov for public viewing. Comments will generally be posted without change. All Personally Identifiable Information (for example, name and address) voluntarily submitted by the commenter may be publicly accessible. Do not submit confidential business information or otherwise sensitive or protected information.

Sheleen Dumas,
Departmental Lead PRA Officer, Office of the Chief Information Officer, Commerce Department.

[FR Doc. 2019-03117 Filed 2-21-19; 8:45 am]

BILLING CODE 3510-21-P